ELECTION ASSISTANCE COMMISSION

Sunshine Act Notice; Meeting

AGENCY: United States Election Assistance Commission.

ACTION: Notice of public meeting agenda.

Date and Time: Thursday, February 2, 2006, 10 a.m.-1 p.m.

Place: Hyatt Regency (Valley Forge Room), 400 New Jersey Avenue, NW., Washington, DC 20001. (Metro Stop: Union Station).

Agenda: The Commission will receive the following reports: Title II Requirements Payments Update; and updates on other administrative matters. The Commission will receive presentations on the following topics: Implementation of the EAC Voting System Certification Program.

This meeting will be open to the public.

FOR FURTHER INFORMATION CONTACT: Bryan Whitener. Telephone: (202) 566-3100.

Ray Martinez III,
Vice-Chairman, U.S. Election Assistance Commission.

[FR Doc. 06-607 Filed 1-18-06; 3:32 pm]

BILLING CODE 6820-KF-M